DEPARTMENT OF COMMERCE

National Oceanic and Atmospheric Administration

[I.D. 071202F]

Endangered Species; File No. 1299

AGENCY: National Marine Fisheries Service (NMFS), National Oceanic and Atmospheric Administration (NOAA), Commerce.

ACTION: Receipt of application for modification.

SUMMARY: Notice is hereby given that Raymond R. Carthy, Ph.D., Florida Cooperative Fish and Wildlife Research Unit, USGS-BRD, Department of Wildlife Ecology and Conservation, University of Florida, P.O. Box 110485, Gainesville, FL 23611-0450, has requested a modification to scientific research Permit No. 1299.

DATES: Written or telefaxed comments must be received on or before August 23, 2002.

ADDRESSES: The modification request and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Lillian Becker or Ruth Johnson, (301)713-2289.

SUPPLEMENTARY INFORMATION: The subject modification to Permit No. 1299, issued on May 24, 2001, (66 FR 29934) is requested under the authority of the Endangered Species Act of 1973, as amended (16 U.S.C. 1531 et seq.).

Permit No. 1299 authorizes the permit holder to capture, handle, photograph, measure, flipper and PIT tag, collect tissue samples from and release loggerhead (Caretta caretta), green (Chelonia mydas), and Kemp’s ridley (Lepidochelys kempi) sea turtles. The purpose of the research, as stated in the application, is to examine the inter-nesting movements and habitat usage of adult loggerhead turtles along the northwestern coast of Florida, while also examining species composition, population densities and habitat utilization in coastal bays in the same area. The permit holder requests authorization to increase the annual allowed take of sea turtles from 100 to 300 for the remainder of the permit which expires on December 31, 2003.

In compliance with the National Environmental Policy Act of 1969 (42 U.S.C. 4321 et seq.), an initial determination has been made that the activity proposed is categorically excluded from the requirement to prepare an environmental assessment or environmental impact statement.

Dated: July 18, 2002.
Eugene T. Nitta,
Acting Chief, Permits, Conservation and Education Division, Office of Protected Resources, National Marine Fisheries Service.

[FR Doc. 02-18741 Filed 7-23-02; 8:45 am]

BILLING CODE 3510-22-S